FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and to engage de novo in certain nonbank activities.

The applications listed below, as well as other related filings required by the Board, are available for immediate inspection at the Federal Reserve Bank indicated. The applications and related filings will also be available for inspection at the offices of the Board of Governors. Interested persons may express their views in writing on the standards enumerated in section 3 of the BHC Act (12 U.S.C. 1842(c)). To the extent the proposal involves the commencement of nonbank activities, the review also includes whether the conduct of these activities complies with the standards in section 4 of the BHC Act (12 U.S.C. 1843), and interested persons may express their views in writing on the standards enumerated in section 4. Unless otherwise noted, nonbanking activities will be conducted throughout the United States.

Unless otherwise noted, comments regarding the applications and related filings must be received at the Reserve Bank indicated or the offices of the Board of Governors not later than October 10, 2019.

A. Federal Reserve Bank of New York (Ivan Hurwitz, Senior Vice President) 33 Liberty Street, New York, New York 10045-0001. Comments can also be sent electronically to Comments.applications@ny.frb.org:

1. Bogota Financial, MHC and Bogota Financial Corp., both of Teaneck, New Jersey; to become bank holding companies by acquiring 100 percent of the shares of Bogota Savings Bank, Teaneck, New Jersey, upon the conversion of Bogota Savings Bank from mutual to stock form, pursuant to section 3(a)(1) of the Bank Holding Company Act of 1956, as amended.

2. Bogota Financial, MHC and Bogota Financial Corp., both of Teaneck, New Jersey, to engage de novo in extending credit and servicing loans, pursuant to section 4(c)(8) of the Bank Holding Company Act of 1956, as amended.

Board of Governors of the Federal Reserve System, September 16, 2019.
Yao-Chin Chao,
Assistant Secretary of the Board.

[FR Doc. 2019-20358 Filed 9-19-19; 8:45 am]

BILLING CODE P